DEPARTMENT OF ENERGY

Federal Energy Regulatory Commission

Combined Notice of Filings #2

Take notice that the Commission received the following electric rate filings:

Docket Numbers: ER10-2530-001.

Applicants: Caprock Wind LLC.

Description: Notice of Non-Material change in status of Caprock Wind LLC.

Filed Date: 10/15/14.

Accession Number: 20141015-5113.

Comments Due: 5 p.m. ET 11/5/14.

Docket Numbers: ER15-91-000.

Applicants: Brandon Shores LLC.

Description: § 205(d) rate filing per 35.13(a)(2)(iii): Market-Based Rate Tariff Revisions to be effective 10/16/2014.

Filed Date: 10/15/14.

Accession Number: 20141015-5052.

Comments Due: 5 p.m. ET 11/5/14.

Docket Numbers: ER15-92-000.

Applicants: C.P. Crane LLC.

Description: § 205(d) rate filing per 35.13(a)(2)(iii): Market-Based Rate Tariff Revisions to be effective 10/16/2014.

Filed Date: 10/15/14.

Accession Number: 20141015-5053.

Comments Due: 5 p.m. ET 11/5/14.

Docket Numbers: ER15-93-000.

Applicants: H.A. Wagner LLC.

Description: § 205(d) rate filing per 35.13(a)(2)(iii): Market-Based Rate Tariff Revisions to be effective 10/16/2014.

Filed Date: 10/15/14.

Accession Number: 20141015-5054.

Comments Due: 5 p.m. ET 11/5/14.

Docket Numbers: ER15-94-000.

Applicants: Sapphire Power Marketing LLC.

Description: § 205(d) rate filing per 35.13(a)(2)(iii): Market-Based Rate Tariff Revisions to be effective 10/16/2014.

Filed Date: 10/15/14.

Accession Number: 20141015-5055.

Comments Due: 5 p.m. ET 11/5/14.

Docket Numbers: ER15-95-000.

Applicants: Bayonne Plant Holding, L.L.C.

Description: § 205(d) rate filing per 35.13(a)(2)(iii): Market-Based Rate Tariff Revisions to be effective 10/16/2014.

Filed Date: 10/15/14.

Accession Number: 20141015-5056.

Comments Due: 5 p.m. ET 11/5/14.

Docket Numbers: ER15-96-000.

Applicants: Camden Plant Holding, L.L.C.

Description: § 205(d) rate filing per 35.13(a)(2)(iii): Market-Based Rate Tariff Revisions to be effective 10/16/2014.

Filed Date: 10/15/14.

Accession Number: 20141015-5057.

Comments Due: 5 p.m. ET 11/5/14.

Docket Numbers: ER15-97-000.

Applicants: Dartmouth Power Associates Limited Partnership.

Description: § 205(d) rate filing per 35.13(a)(2)(iii): Market-Based Rate Tariff Revisions to be effective 10/16/2014.

Filed Date: 10/15/14.

Accession Number: 20141015-5058.

Comments Due: 5 p.m. ET 11/5/14.

Docket Numbers: ER15-98-000.

Applicants: Elmwood Park Power, LLC.

Description: § 205(d) rate filing per 35.13(a)(2)(iii): Market-Based Rate Tariff Revisions to be effective 10/16/2014.

Filed Date: 10/15/14.

Accession Number: 20141015-5059.

Comments Due: 5 p.m. ET 11/5/14.

Docket Numbers: ER15-99-000.

Applicants: Newark Bay Cogeneration Partnership, L.P.

Description: § 205(d) rate filing per 35.13(a)(2)(iii): Market-Based Rate Tariff Revisions to be effective 10/16/2014.

Filed Date: 10/15/14.

Accession Number: 20141015-5060.

Comments Due: 5 p.m. ET 11/5/14.

Docket Numbers: ER15-100-000.

Applicants: Pedricktown Cogeneration Company LP.

Description: § 205(d) rate filing per 35.13(a)(2)(iii): Market-Based Rate Tariff Revisions to be effective 10/16/2014.

Filed Date: 10/15/14.

Accession Number: 20141015-5062.

Comments Due: 5 p.m. ET 11/5/14.

Docket Numbers: ER15-101-000.

Applicants: York Generation Company LLC.

Description: § 205(d) rate filing per 35.13(a)(2)(iii): Market-Based Rate Tariff Revisions to be effective 10/16/2014.

Filed Date: 10/15/14.

Accession Number: 20141015-5064.

Comments Due: 5 p.m. ET 11/5/14.

Docket Numbers: ER15-102-000.

Applicants: TrailStone Power, LLC.

Description: § 205(d) rate filing per 35.13(a)(2)(iii): Market-Based Rate Tariff Revisions to be effective 10/16/2014.

Filed Date: 10/15/14.

Accession Number: 20141015-5065.

Comments Due: 5 p.m. ET 11/5/14.

Docket Numbers: ER15-103-000.

Applicants: Invenergy Nelson LLC.

Description: Initial rate filing per 35.12 Application for Market-Based Rate Authorization to be effective 12/15/2014.

Filed Date: 10/15/14.

Accession Number: 20141015-5076.

Comments Due: 5 p.m. ET 11/5/14.

Docket Numbers: ER15-103-001.

Applicants: Invenergy Nelson LLC.

Description: Tariff Amendment per 35.17(b): Supplement to Application for Market-Based Rate Authorization to be effective 12/15/2014.

Filed Date: 10/15/14.

Accession Number: 20141015-5082.

Comments Due: 5 p.m. ET 11/5/14.

Docket Numbers: ER15-104-000.

Applicants: Midcontinent Independent System Operator, Inc.

Description: § 205(d) rate filing per 35.13(a)(2)(iii): 2014-10-15_SA 1503 NSP-Mankato GIA 1st Rev. (G261) to be effective 10/16/2014.

Filed Date: 10/15/14.

Accession Number: 20141015-5078.

Comments Due: 5 p.m. ET 11/5/14.

Docket Numbers: ER15-105-000.

Applicants: PJM Interconnection, L.L.C.

Description: § 205(d) rate filing per 35.13(a)(2)(iii): Original Service Agreement No. 3982; Queue No. R52 to be effective 9/15/2014.

Filed Date: 10/15/14.

Accession Number: 20141015-5080.

Comments Due: 5 p.m. ET 11/5/14.

Docket Numbers: ER15-106-000.

Applicants: Trans-Allegheny Interstate Line Company, West Penn Power Company, The Potomac Edison Company, Monongahela Power Company, Pennsylvania Electric Company, PJM Interconnection, L.L.C.

Description: § 205(d) rate filing per 35.13(a)(2)(iii): TrAILCo, West Penn Power Company, The Potomac Edison Company, Monongahela Power Company, Pennsylvania Electric Company and PJM Interconnection, L.L.C. submit Service Agreements to be effective 12/15/2014.

Filed Date: 10/15/14.

Accession Number: 20141015-5083.

Comments Due: 5 p.m. ET 11/5/14.

Docket Numbers: ER15-107-000.

Applicants: Tampa Electric Company.

Description: Initial rate filing per 35.12 TEC Interconnection w_Mosaic_South Pierce—RS FERC No. 99 to be effective 8/30/2014.

Filed Date: 10/15/14.

Accession Number: 20141015-5120.

Comments Due: 5 p.m. ET 11/5/14.

Docket Numbers: ER15-108-000.

Applicants: Tampa Electric Company.

Description: Initial rate filing per 35.12 TEC Interconnection w_Mosaic_Plant City—RS FERC No. 100 to be effective 8/30/2014.

Filed Date: 10/15/14.

Accession Number: 20141015-5122.

Comments Due: 5 p.m. ET 11/5/14.

Docket Numbers: ER15-109-000.

Applicants: PJM Interconnection, L.L.C.

Description: § 205(d) rate filing per 35.13(a)(2)(iii): Original Service Agreement No. 3984; Queue No. R52A to be effective 9/15/2014.

Filed Date: 10/15/14.

Accession Number: 20141015-5124.

Comments Due: 5 p.m. ET 11/5/14.

Docket Numbers: ER15-110-000.

Applicants: Terra-Gen Energy Services, LLC.

Description: Initial rate filing per 35.12 MBR Application to be effective 11/15/2014.

Filed Date: 10/15/14.

Accession Number: 20141015-5135.

Comments Due: 5 p.m. ET 11/5/14.

Take notice that the Commission received the following electric reliability filings:

Docket Numbers: RR14-6-001.

Applicants: North American Electric Reliability Corporation.

Description: Request of the North American Electric Reliability Corporation to Submit Revisions to the 2015 Budget and Assessments of Peak Reliability, Inc. to Reflect Additional Revenues from British Columbia Hydro and Power Authority.

Filed Date: 10/14/14.

Accession Number: 20141014-5501.

Comments Due: 5 p.m. ET 10/21/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 15, 2014.
Nathaniel J. Davis, Sr.,
Deputy Secretary.

[FR Doc. 2014-25117 Filed 10-21-14; 8:45 am]

BILLING CODE 6717-01-P